FEDERAL DEPOSIT INSURANCE CORPORATION

Notice of Change in Subject Matter of Agency Meeting

Pursuant to the provisions of subsection (e)(2) of the “Government in the Sunshine Act” (5 U.S.C. 552b(e)(2)), notice is hereby given that at its open meeting held at 10:04 a.m. on Thursday, December 21, 2000, the Corporation's Board of Directors determined, on motion of Vice Chairman Andrew C. Hove, Jr., seconded by Director Ellen S. Seidman (Director, Office of Thrift Supervision), concurred in by Director John D. Hawke, Jr. (Comptroller of the Currency), and Chairman Donna Tanoue, that Corporation business required the addition to the agenda for consideration at the meeting, on less than seven days' notice to the public, of the following matter:

Memorandum and resolution re: Disclosure and Reporting of Community Reinvestment Act-Related Agreements: Joint Final Rule.

The Board further determined, by the same majority vote, that no notice of the change in the subject matter of the meeting prior to December 20, 2000, was practicable.

Dated: December 21, 2000.
Federal Deposit Insurance Corporation.
James D. LaPierre,
Deputy Executive Secretary.

[FR Doc. 00-33024 Filed 12-21-00; 4:38 pm]

BILLING CODE 6714-01-M